DEPARTMENT OF THE INTERIOR

National Park Service

[N6796; NPS-WASO-NAGPRA-NPS0041567; PPWOCRADN0-PCU00RP14.R50000]

Notice of Inventory Completion: Michigan State Historic Preservation Office, Lansing, MI

AGENCY: National Park Service, Interior.

ACTION: Notice.

SUMMARY: In accordance with the Native American Graves Protection and Repatriation Act (NAGPRA), the Michigan State Historic Preservation Office (SHPO) has completed an inventory of associated funerary objects and has determined that there is a cultural affiliation between the associated funerary objects and Indian Tribes or Native Hawaiian organizations in this notice.

DATES: Repatriation of the associated funerary objects in this notice may occur on or after January 20, 2026.

ADDRESSES: Send written requests for repatriation of the associated funerary objects in this notice to Sarah Surface-Evans, State Historic Preservation Office, Michigan Economic Development Corporation, 300 N Washington Square, Lansing, MI 48913, email SurfaceEvansS1@michigan.gov.

SUPPLEMENTARY INFORMATION: This notice is published as part of the National Park Service's administrative responsibilities under NAGPRA. The determinations in this notice are the sole responsibility of the SHPO, and additional information on the determinations in this notice, including the results of consultation, can be found in the inventory or related records. The National Park Service is not responsible for the determinations in this notice.

Abstract of Information Available

Based on the information available, three associated funerary objects were removed from the Fourteen Mile Point site (20ON84) in Ontonagon County, Michigan. The associated funerary objects were inadvertently discovered along with Ancestral human remains at the site in 1983; the Ancestral remains were transferred to the Keweenaw Bay Indian Community Tribal Police in 1985. The site is dated to the Post-Contact Period A.D. 1800-1830 based on diagnostic artefacts at the site. The three associated funerary objects are one lot iron axe head, one lot glass beads, and one lot ferrous knife fragment.

The SHPO has no record of, nor do its officials have any knowledge of, any treatment of the items with pesticides, preservatives, or other substances that represent a potential hazard to the collection(s) or to persons handling the collection(s).

Cultural Affiliation

Based on the information available and the results of consultation, cultural affiliation is reasonably identified by the geographical location or acquisition history of the associated funerary objects described in this notice.

Determinations

The SHPO has determined that:

• The three objects described in this notice are reasonably believed to have been placed intentionally with or near individual Ancestral human remains at the time of death or later as part of the death rite or ceremony.

• There is a reasonable connection between the associated funerary objects described in this notice and the Keweenaw Bay Indian Community, Michigan and the Lac Vieux Desert Band of Lake Superior Chippewa Indians of Michigan.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the associated funerary objects in this notice to a requestor may occur on or after January 20, 2026. If competing requests for repatriation are received, the SHPO must determine the most appropriate requestor prior to repatriation. Requests for joint repatriation of the associated funerary objects are considered a single request and not competing requests. The SHPO is responsible for sending a copy of this notice to the Indian Tribes and Native Hawaiian organizations identified in this notice.

Authority: Native American Graves Protection and Repatriation Act, 25 U.S.C. 3003, and the implementing regulations, 43 CFR 10.10.

Dated: December 8, 2025.
Melanie O'Brien,
Manager, National NAGPRA Program.

[FR Doc. 2025-23375 Filed 12-18-25; 8:45 am]

BILLING CODE 4312-52-P